DEPARTMENT OF COMMERCE

National Oceanic and Atmospheric Administration

Agency Information Collection Activities; Submission to the Office of Management and Budget (OMB) for Review and Approval; Comment Request; Papahānaumokuākea Marine National Monument Permit Application and Reports for Permits

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on August 28, 2023 during a 60-day comment period. This notice allows for an additional 30 days for public comments.

Agency: National Oceanic & Atmospheric Administration (NOAA), Commerce.

Title: Papahānaumokuākea Marine National Monument Permit Application and Reports for Permits.

OMB Control Number: 0648-0548.

Form Number(s): None.

Type of Request: Regular submission, extension of a current information collection.

Number of Respondents: 411.

Average Hours per Response: Conservation and Management and Education (“general” permits), 5 hours; Special Ocean Use permits, 10 hours; Native Hawaiian Practices permits, 8 hours; Recreation permits, 6 hours; permit modification requests and final reports, 10 hours; and annual reports, 5 hours.

Total Annual Burden Hours: 1,343.

Needs and Uses: This request is for an extension of a currently approved information collection. The National Oceanic and Atmospheric Administration (NOAA) Office of National Marine Sanctuaries (ONMS) is sponsoring the information collection as described herein. ONMS manages national marine sanctuaries pursuant to the purposes and policies of the National Marine Sanctuaries Act (NMSA, 16 U.S.C. 1431 et seq.). President Bush established the Papahānaumokuākea Marine National Monument (Monument) through Presidential Proclamation 8031 (Proclamation) dated June 15, 2006, (71 FR 36443, June 26, 2006) under the authority of the Antiquities Act (Act) (54 U.S.C. 320301). The Proclamation reserves all lands and interests in lands owned or controlled by the Government of the United States in the Northwestern Hawaiian Islands (NWHI), including emergent and submerged lands and waters, out to a distance of approximately 50 nautical miles (nmi) (93 km) from the islands. The boundaries of the Monument as described in Presidential Proclamation 8031 are 100 miles (160 km) wide and extend approximately 1200 miles (1931 km) around coral islands, seamounts, banks, and shoals. The area includes the Northwestern Hawaiian Islands Coral Reef Ecosystem Reserve, the Midway Atoll National Wildlife Refuge, the Hawaiian Islands National Wildlife Refuge, and the Battle of Midway National Memorial.

The Proclamation includes restrictions and prohibitions regarding activities in the Monument consistent with the authority provided by the Act. The Proclamation prohibits access to the Monument except when passing through the Monument without interruption or as allowed via permit. Vessels passing through the Monument without interruption are required to notify NOAA and the U.S. Fish and Wildlife Service upon entering into and leaving the Monument. Pursuant to the Proclamation, individuals wishing to access the Monument to conduct certain regulated activities must first apply for and be granted a permit. Applicants must also certify compliance with certain vessel monitoring system requirements.

The information submitted in permit applications will, in general, be used at the time the application is submitted to make a final decision on the application. Some of the information may also be used subsequent to the initial decision making to inform management actions or decision making. For example, a survey of a project location by one permit applicant may be used by the agency in the future to respond to a vessel grounding in the same area in addition to facilitating the agency's decision on that application. Information submitted in a report will be used to periodically assess the permittee's compliance with permit terms and conditions and to assist in evaluating the appropriateness of the permitted activity.

Affected Public: Individuals, non-profit institutions; Federal, State, local, government, Native Hawaiian organizations; business or other for-profit organizations.

Frequency: On occasion. Permittees are required to submit a summary report due 30 days after the expiration of their permit; and an annual report due by December 31st for each year their permit is active.

Respondent's Obligation: Required to Obtain or Retain Benefits.

Legal Authority: 54 U.S.C. 320301 et seq.; 16 U.S.C. 1801 et seq.; 16 U.S.C. 742f, 16 U.S.C. 742l; 16 U.S.C. 1431 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0548.

Sheleen Dumas,
Department PRA Clearance Officer, Office of the Under Secretary for Economic Affairs, Commerce Department.

[FR Doc. 2023-25848 Filed 11-21-23; 8:45 am]

BILLING CODE 3510-NK-P